DEPARTMENT OF STATE

[Public Notice: 12134]

Report to Congress Pursuant to Section 353(b) of the United States—Northern Triangle Enhanced Engagement Act

ACTION: Notice of report.

SUMMARY: This report on Corrupt and Undemocratic Actors is submitted in fulfilment of the State Department's Congressional reporting requirement for 2023 regarding foreign persons who are determined to have knowingly engaged in actions that undermine democratic processes or institutions, significant corruption, or obstruction of investigation into such acts of corruption in El Salvador, Guatemala, and Honduras pursuant to section 353(b) of the United States—Northern Triangle Enhanced Engagement Act, as amended.

SUPPLEMENTARY INFORMATION: Report to Congress on Foreign Persons Who Have Knowingly Engaged in Actions that Undermine Democratic Processes or Institutions, Significant Corruption, or Obstruction of Investigations Into Such Acts of Corruption in El Salvador, Guatemala, Honduras, and Nicaragua, Pursuant to Section 353(b) of the United States—Northern Triangle Enhanced Engagement Act (22 U.S.C. 2277a(b), as amended) (Section 353)

Consistent with Section 353(b) of the United States—Northern Triangle Enhanced Engagement Act (22 U.S.C. 2277a(b)) (the Act), as amended, this report is being submitted to the House Foreign Affairs Committee,Senate Foreign Relations Committee, House Committee on the Judiciary, and the Senate Committee on the Judiciary.

Section 353(b) requires the submission of a report that identifies the following persons: foreign persons who the President has determined have knowingly engaged (1) in actions that undermine democratic processes or institutions; (2) in significant corruption; and (3) in obstruction of investigations into such acts of corruption, in El Salvador, Guatemala, Honduras, and Nicaragua, including the following: corruption related to government contracts; bribery and extortion; the facilitation or transfer of the proceeds of corruption, including through money laundering; and acts of violence, harassment, or intimidation directed at governmental and nongovernmental corruption investigators. On June 21, 2021, the President delegated his authority under Section 353 to the Secretary of State.

Under section 353, foreign persons identified in the report submitted to Congress are generally ineligible for visas and admission to the United States, and any current visa shall be revoked immediately, and any other valid visa or entry documentation cancelled. Consistent with Section 353(g), this report will be published in the Federal Register.

This report includes individuals who have been determined to have engaged in the relevant activity based upon credible information or allegations of the conduct at issue, from media reporting and other sources. The Department will continue to review the individuals listed in the report and consider all available tools to deter and disrupt corrupt and undemocratic activity in El Salvador, Guatemala, Honduras, and Nicaragua. The Department also continues to review additional credible information and allegations concerning corruption or undemocratic activity and to utilize all applicable authorities, as appropriate, to ensure corrupt or undemocratic officials are denied safe haven in the United States.

El Salvador

Jose Miguel “Mecafe” Antonio Menendez Avelar, a former president of the Center for Fairs and Conventions (CIFCO), engaged in significant corruption by steering an $8.4 million Ministry of Public Works contract for the construction of a bridge in Chalatenango Department, El Salvador, to a Guatemalan businessman. In return, Menendez illegally received a small plane, a Beechcraft King Air 90, as a gift.

Carlos Alberto Ortiz, a former president of Banco Hipotecario, a state-owned bank, engaged in significant corruption by laundering $97 million in exchange for $72,000 in bribes.

Carlos Enrique Cruz Arana, a former vice president of Banco Hipotecario, a state-owned bank, engaged in significant corruption by laundering $94.5 million in exchange for $64,500 in bribes.

Jolman Alexander Ayala, a former compliance officer of Banco Hipotecario, a state-owned bank, engaged in significant corruption by laundering $177 million in exchange for $78,000 in bribes.

Carlos Mauricio Funes Cartagena, a former president of El Salvador, engaged in significant corruption by orchestrating and participating in several schemes involving bribery, embezzlement, and money laundering while president, pilfering hundreds of millions of dollars from state coffers.

Salvador Sanchez Ceren, a former president and vice president of El Salvador, engaged in significant corruption by laundering money during his tenure as vice president, personally receiving more than $1.3 million in public funds in exchange, and participated in a scheme to divert $183 million in public funds away from public accounts and oversight into personal accounts while serving as president.

Guatemala

Cinthia Edelmira Monterroso Gómez, a current prosecutor, undermined democratic processes or institutions by bringing unsubstantiated, politically motivated criminal charges against journalists for exercising their freedom of expression as protected by Guatemalan law.

Edgar Humberto Navarro Castro, a former president of Guatemala's energy wholesale market administrator (AMM), engaged in significant corruption by providing official benefits in exchange for bribes and kickbacks, at the expense of improving energy efficiency and taking effective action against climate change.

Fredy Raul Orellana Letona, a current judge, undermined democratic processes or institutions by authorizing unsubstantiated, politically motivated criminal charges against journalists who were exercising their freedom of expression as protected by Guatemalan law.

Gendri Rocael Reyes Mazariegos, a former minister of interior, engaged in significant corruption.

Joviel Acevedo Ayala, the current head of Guatemalan Education Workers Union (STEG), engaged in significant corruption by providing STEG's political support in exchange for bribes from public officials.

Jimi Rodolfo Bremer Ramírez, a current judge, undermined democratic processes or institutions by authorizing politically motivated criminal charges against journalists for exercising their freedom of expression as protected by Guatemalan law.

Lesther Castellanos Rodas, a former judge and current Guatemalan Rapporteur against Torture, undermined democratic processes or institutions by retaliating against an anticorruption prosecutor for filing administrative complaints concerning Castellanos's handling of a criminal case.

Melvin Quijivix Vega, the current president of the National Electrification Institute (INDE), engaged in significant corruption by using his position and connections to improperly and unlawfully direct government procurement contracts to specific companies, in several cases to a company he privately owns.

Omar Ricardo Barrios Osorio, the current president of the Board of Directors of the National Port Commission, undermined democratic processes or institutions by conspiring to intimidate and harass an anticorruption prosecutor for denouncing corrupt activity.

Walter Ramiro Mazariegos Biolis, the Rector of the San Carlos University (USAC), undermined democratic processes or institutions by accepting the position of Rector of the public education institution in July 2022 following a fraudulent selection process.

Honduras

Alex Alberto Moraes Giron, a former administrative manager of state-owned Strategic Investment of Honduras (INVEST-H), engaged in significant corruption by misappropriating public funds during the COVID-19 pandemic, including by defrauding the Honduran government of approximately $1.6 million intended for facemasks to be used by medical personnel.

Alexander Lopez Orellana, the current mayor of El Progreso and secretary general of the Liberal Party's Central Executive Council, engaged in significant corruption by improperly awarding multi-million dollar municipal contracts to his political allies.

Edna Yolany Batres Cruz, a former Minister of Health, engaged in significant corruption when she defrauded the Honduran government of more than $300,000 by colluding with Ministry of Health officials and private-sector businesspeople to improperly award government contracts.

Jesus Arturo Mejia Arita, a former general manager of the Honduran National Electric Energy Company (ENEE), engaged in significant corruption by awarding non-competitive or overpriced contracts for the generation of electricity and other energy-related services in exchange for bribes, and by facilitating corrupt schemes related to the hiring and firing of ENEE employees in exchange for kickbacks.

Marcelo Antonio Chimirri Castro, the former director of the Honduran Telecommunications Company (HONDUTEL), engaged in significant corruption by committing fraud to improperly keep a telecommunications agreement in place in exchange for bribes and obstructed investigations into his corrupt acts by intimidating journalists.

Miguel Rodrigo Pastor Mejia, a former director of the now-defunct Secretariat of Public Works, Transport, and Housing (SOPTRAVI), engaged in significant corruption, laundering money on behalf of the Los Cachiros drug trafficking organization, by awarding $2.76 million in Honduran government contracts to a Cachiros-controlled construction firm.

Roberto Antonio Ordonez Wolfovich, a former minister of infrastructure and public services (INSEP), former minister of energy, and former presidential advisor to President Juan Orlando Hernandez, engaged in significant corruption by embezzling state funds through the overvaluation of public works projects.

Samuel Garcia Salgado, a current member of the Honduran National Congress from the Liberal Party, undermined democratic processes or institutions by manipulating the outcome of the Supreme Court of Justice election in 2023 for his personal and political gain.

Victor Elias Bendeck Ramirez, a private businessman and former member of the Central American Parliament, engaged in significant corruption through a series of fraudulent business activities in the banking, real estate, and other sectors and by using his influence with government officials for his personal gain.

Yani Benjamin Rosenthal Hidalgo, the current president of the Liberal Party in Honduras, undermined democratic processes or institutions by manipulating the outcome of the Supreme Court of Justice election in 2023 for his personal and political gain. Rosenthal also used his influence with government officials to escape accountability for apparent violations of Honduran law by his family-owned cable company.

Nicaragua

Wendy Carolina Morales Urbina, the current Nicaraguan attorney general, undermined democratic processes or institutions, using the office of the attorney general to facilitate a coordinated campaign to suppress dissent, by confiscating property from the government's political opponents without a legal basis. Urbina has also seized property from thousands of nongovernmental organizations (NGOs) under laws explicitly designed to suppress freedom of association.

Arling Patricia Alonso Gomez, the current first vice president of the National Assembly, undermined democratic processes or institutions by taking part in coordinated government retaliation to strip Nicaraguan citizenship from political opponents and critics of the Ortega-Murillo regime.

Gladis de los Angeles Baez, the current second vice president of the National Assembly, undermined democratic processes or institutions by taking part in coordinated government retaliation to strip Nicaraguan citizenship from political opponents and critics of the Ortega-Murillo regime.

Loria Raquel Dixon Brautigam, the current first secretary of the National Assembly, undermined democratic processes or institutions by taking part in coordinated government retaliation to strip Nicaraguan citizenship from political opponents and critics of the Ortega-Murillo regime.

Alejandro Mejia Ferreti, the current third secretary of the National Assembly, undermined democratic processes and institutions by taking part in coordinated government retaliation to strip Nicaraguan citizenship from political opponents and critics of the Ortega-Murillo regime.

Rosa Argentina Solís Davila, an appeals court judge in the Criminal Appeals Court of Managua, undermined democratic processes or institutions by using the Appeals Court to facilitate a coordinated government campaign to retaliate against critics of the Ortega-Murillo regime and suppress dissent by stripping Nicaraguan citizenship from political opponents and critics of the Ortega-Murillo regime.

Angela Davila Navarrete, a current appeals court judge in the Criminal Appeals Court of Managua, undermined democratic processes or institutions by using the Appeals Court to facilitate a coordinated government campaign to retaliate against critics of the Ortega-Murillo regime and suppress dissent by stripping Nicaraguan citizenship from political opponents and critics of the Ortega-Murillo regime.

Denis Membreño Rivas, the current director of the Financial Analysis Unit (UAF), the Nicaraguan government's financial crimes unit, undermined democratic processes or institutions by taking part in a coordinated campaign to suppress dissent, using his position to facilitate asset seizures from 94 political dissidents in exile and 222 former political prisoners, without any legal basis.

Aldo Martín Sáenz Ulloa, a current sub-director of the Financial Analysis Unit (UAF), the Nicaraguan government's financial crimes unit, undermined democratic processes or institutions by taking part in a coordinated campaign to retaliate against critics of the Ortega-Murillo regime and to suppress dissent, using his position to facilitate asset seizures from 94 political dissidents in exile and 222 former political prisoners, without any legal basis.

Valeria Maritza Halleslevens Centeno, the current director of the National Directorate of Property Registrar Offices (DNR), undermined democratic processes or institutions by using her position and influence to facilitate a coordinated government effort to confiscate the property of political opponents.

Eduardo Celestino Ortega Roa, a current deputy director of the National Directorate of Property Registrar Offices (DNR), undermined democratic processes or institutions by using his position and influence to facilitate a coordinated government effort to confiscate the property of political opponents.

Marta Mayela Diaz Ortiz, a current vice superintendent of banks and other financial institutions (SIBOIF), undermined democratic processes or institutions by using SIBOIF to provide the financial information of political dissidents in exile and former political prisoners to officials in the Nicaraguan judiciary as part of a coordinated government effort to suppress dissent by seizing the assets of political adversaries without a legal basis.

Sagrario de Fatima Benavides Lanuza, a vice director of the Nicaraguan Social Security Institute (INSS), undermined democratic processes or institutions by using her position and influence to facilitate a coordinated, politically motivated government campaign to terminate and seize pensions from political adversaries without a legal basis.

Dated: July 14, 2023.
Richard R. Verma,
Deputy Secretary of State for Management and Resources.

[FR Doc. 2023-15775 Filed 7-25-23; 8:45 am]

BILLING CODE 4710-29-P